DEPARTMENT OF LABOR

President's Committee on the International Labor Organization Charter Renewal

AGENCY: Bureau of International Labor Affairs, Labor.

ACTION: Notice of charter renewal.

SUMMARY: On September 27, 2019, President Trump continued the President's Committee on the International Labor Organization (ILO) for two years through September 30, 2021. In response, and pursuant to the Federal Advisory Committee Act (FACA), the Secretary of Labor renewed the committee's charter on January 22, 2020.

Purpose: The President's Committee on the International Labor Organization was established in 1980 by Executive Order 12216 to monitor and assess the work of the ILO and make recommendations to the President regarding United States policy towards the ILO. The committee is chaired by the Secretary of Labor and the Department of Labor's Bureau of International Labor Affairs is responsible for providing the necessary support for the committee.

The committee is composed of seven ex officio members: The Secretary of Labor (chair), the Secretary of State, the Secretary of Commerce, the Assistant to the President for National Security Affairs, the Assistant to the President for Economic Policy, and one representative each from organized labor and the business community, designated by the Secretary. The labor and business members are the presidents of the American Federation of Labor and Congress of Industrial Organizations (AFL-CIO) and the United States Council for International Business (USCIB), respectively, as the most representative organizations of U.S. workers and employers engaged in ILO matters.

Authority: The authority for this notice is granted by the Federal Advisory Committee Act (5 U.S.C. App. 2) and the Executive Order No. 13889 of September 27, 2019.

FOR FURTHER INFORMATION CONTACT: Robert B. Shepard, Director, Office of International Relations, Bureau of International Labor Affairs, U.S. Department of Labor, telephone (202) 693-4808, shepard.robert@dol.gov.

Martha E. Newton,
Deputy Undersecretary, Bureau of International Labor Affairs.

[FR Doc. 2020-02001 Filed 1-31-20; 8:45 am]

BILLING CODE 4510-28-P